DEPARTMENT OF HOUSING AND URBAN DEVELOPMENT

[Docket No. FR-5415-N-08]

Notice of Availability: Notice of Funding Availability (NOFA) for Fiscal Year (FY) 2010 Indian Community Development Block Grant (ICDBG) Program for Indian Tribes and Alaska Native Villages

AGENCY: Office of the Chief of the Human Capital Officer, HUD.

ACTION: Notice.

SUMMARY: HUD announces the availability on its Web site of the application information, submission deadlines, funding criteria, and other requirements for the FY2010 ICDBG NOFA. Approximately $65 million is made available through this NOFA, by the Consolidated Appropriations Act, 2010 (Pub. L. 111-117, approved December 16, 2009). Of this amount, up to $3.96 million is retained to fund Imminent Threat Grants. The purpose of the ICDBG program is the development of viable Indian and Alaska Native communities, including the creation of decent housing, suitable living environments, and economic opportunities primarily for persons with low and moderate incomes.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the ICDBG is 14.862. Applications must be submitted electronically through Grants.gov.

FOR FURTHER INFORMATION CONTACT: For information concerning the ICDBG Program for Indian Tribes and Alaska Native Villages, contact Deborah M. Lalancette, Director, Office of Grants Management, Office of Native American Programs, Office of Public and Indian Housing, Office of Grants Management, Department of Housing and Urban Development, 1670 Broadway, 23rd Floor, Denver, CO 80202; telephone number (303) 675-1600 (this is not a toll-free number). Persons with speech or hearing impairments may access this telephone number via TTY by calling the toll-free Federal Information Relay Service during working hours at 800-877-8339.

Dated: August 24, 2010.
Barbara S. Dorf,
Director, Office of Departmental Grants Management and Oversight, Office of the Chief of the Human Capital Officer.

[FR Doc. 2010-21401 Filed 8-26-10; 8:45 am]

BILLING CODE 4210-67-P